FEDERAL HOUSING FINANCE AGENCY

[No. 2017-N-03]

Federal Home Loan Bank Community Support Program—Opportunity To Comment on Members Subject to Review

AGENCY: Federal Housing Finance Agency.

ACTION: Notice.

SUMMARY: The Federal Housing Finance Agency (FHFA) reviews all applicable Federal Home Loan Bank (Bank) members every two years under FHFA's community support requirements regulation. FHFA is undertaking its review for the 2017 review cycle. This Notice invites the public to comment on the community support performance of individual members.

DATES: Public comments on individual Bank members' community support performance must be submitted to FHFA on or before March 31, 2017.

ADDRESSES: Comments on members' community support performance should be submitted to FHFA by electronic mail at hmgcommunitysupportprogram@fhfa.gov or by fax to 202-649-4308.

FOR FURTHER INFORMATION CONTACT: Deattra Perkins, Senior Policy Analyst, at hmgcommunitysupportprogram@fhfa.gov or 202-649-3133, Division of Housing Mission and Goals, Federal Housing Finance Agency, Ninth Floor, 400 Seventh Street SW., Washington, DC 20219.

SUPPLEMENTARY INFORMATION:

I. Community Support Review

Section 10(g)(1) of the Federal Home Loan Bank Act (Bank Act) requires FHFA to promulgate regulations establishing standards of community investment or service that Bank members must meet in order to maintain access to long-term Bank advances. See 12 U.S.C. 1430(g)(1). The regulations promulgated by FHFA must take into account factors such as the Bank member's performance under the Community Reinvestment Act of 1977 (CRA), 12 U.S.C. 2901 et seq., and the Bank member's record of lending to first-time homebuyers. See 12 U.S.C. 1430(g)(2). Pursuant to section 10(g) of the Bank Act, FHFA has promulgated a community support requirements regulation that establishes standards a Bank member must meet in order to maintain access to long-term advances, and establishes review criteria FHFA must apply in evaluating a member's community support performance. See 12 CFR part 1290. The regulation includes standards and criteria for the two statutory factors—members' CRA performance and members' record of lending to first-time homebuyers. 12 CFR 1290.3. Only members subject to the CRA must meet the CRA standard. 12 CFR 1290.3(b). All members subject to community support review, including those not subject to the CRA, must meet the first-time homebuyer standard. 12 CFR 1290.3(c). Members that have been certified as community development financial institutions (CDFIs) are deemed to be in compliance with the community support requirements and are not subject to periodic community support review, unless the CDFI member is also an insured depository institution or a CDFI credit union. 12 CFR 1290.2(d). In addition, FHFA will not review an institution's community support performance until it has been a Bank member for at least one year. 12 CFR 1290.2(e).

Under the regulation, FHFA reviews each applicable member once every two years. Starting April 1, 2017, each member that is subject to community support review will be required to use an online form to submit to FHFA a completed Community Support Statement, executed by an appropriate senior officer of the member. All Community Support Statements for this review cycle must be submitted using the online form by December 31, 2017. FHFA will review the community support performance of each member after receiving the member's completed Community Support Statement.

II. Public Comments

FHFA encourages the public to submit comments by March 31, 2017, on the community support performance of Bank members. Each Bank is required to post a notice on its public Web site and to notify its Advisory Council, nonprofit housing developers, community groups, and other interested parties in its district of the opportunity to submit comments on the community support programs and activities of Bank members, with the name and address of each member subject to community support review. 12 CFR 1290.2(c)(1). In reviewing a member for community support compliance, FHFA will consider any public comments it has received concerning the member. 12 CFR 1290.2(c)(3). To ensure consideration by FHFA, comments concerning the community support performance of members being reviewed in 2017 must be submitted to FHFA, either by electronic mail to hmgcommunitysupportprogram@fhfa.gov, or by fax to 202-649-4308, on or before March 31, 2017. 12 CFR 1290.2(c)(2).

The names of applicable members currently subject to Community Support review can be found on the public Web sites for the individual Banks at:

Federal Home Loan Bank of Boston—District 1 (Connecticut, Massachusetts, New Hampshire, Rhode Island, Vermont) http://www.fhlbboston.com/communitydevelopment/programs/support_statements.jsp

Federal Home Loan Bank of New York—District 2 (New Jersey, New York, Puerto Rico) http://www.fhlbny.com/news-events/bulletins-memos/prior-bulletins-memos/2015/bulletin062915.aspx

Federal Home Loan Bank of Pittsburgh—District 3 (Delaware, Pennsylvania, West Virginia) https://www.fhlb-pgh.com/Files/Resources/CSS.pdf

Federal Home Loan Bank of Atlanta—District 4 (Alabama, District of Columbia, Florida, Georgia, Maryland, North Carolina, South Carolina, Virginia) http://corp.fhlbatl.com/

Federal Home Loan Bank of Cincinnati—District 5 (Kentucky, Ohio, Tennessee) https://www.fhlbcin.com/

Federal Home Loan Bank of Indianapolis—District 6 (Indiana, Michigan) https://www.fhlbi.com/products-services/communities-and-housing

Federal Home Loan Bank of Chicago—District 7 (Illinois, Wisconsin) http://www.fhlbc.com/ProductsandServices/CommunityInvestmentsandAffordableHousingPrograms/Pages/federal-home-loan-bank-chicago-community-support-statements.aspx

Federal Home Loan Bank of Des Moines—District 8 (Alaska, Guam, Hawaii, Idaho, Iowa, Minnesota, Missouri, Montana, North Dakota, Oregon, South Dakota, Utah, Washington, Wyoming) http://www.fhlbdm.com

Federal Home Loan Bank of Dallas—District 9 (Arkansas, Louisiana, Mississippi, New Mexico, Texas) https://www.fhlb.com/membership/Pages/Community-Support-Standards.aspx

Federal Home Loan Bank of Topeka—District 10 (Colorado, Kansas, Nebraska, Oklahoma) https://www.fhlbtopeka.com/community-programs-community-support-statements

Federal Home Loan Bank of San Francisco—District 11 (Arizona, California, Nevada) http://www.fhlbsf.com/community/grant/community-support-review.aspx

Dated: February 10, 2017.
Melvin L. Watt,
Director, Federal Housing Finance Agency.

[FR Doc. 2017-03064 Filed 2-14-17; 8:45 am]

BILLING CODE 8070-01-P